DEPARTMENT OF HEALTH AND HUMAN SERVICES

Administration for Children and Families

Proposed Information Collection Activity; Comment Request

Title: Study of Coaching Practices in Early Care and Education Settings (SCOPE).

OMB No.: New Collection.

Description: The Administration for Children and Families (ACF) at the U.S. Department of Health and Human Services (HHS) seeks approval to collect descriptive information for the Study of Coaching Practices in Early Care and Education Settings (SCOPE) project. The goal of this information collection is to identify how professional development coaching practices for early care and education (ECE) providers are implemented and vary in ECE classrooms serving children supported by Child Care and Development Fund (CCDF) subsidies or Head Start grants. This study will focus primarily on coaching used for delivering professional development services to ECE teachers and caregivers to improve knowledge and practice in center-based classrooms and family child care (FCC) homes serving preschool-age children. This study aims to advance understanding of how core features of coaching are implemented in ECE classrooms, how the features may vary by key contextual factors and implementation drivers, and which are ripe for more rigorous evaluation. The study tasks will include gathering information to inform selection of states in which to conduct the study, designing and conducting a descriptive study to examine the occurrence and variability of coaching features in ECE classrooms, and conducting case studies to examine program or systems-level drivers of coaching and the features being implemented.

Respondents: State administrators knowledgeable about coaching and coaching funders or providers, ECE center directors, coaches, teachers, and FCC providers.

Annual Burden Estimates
Instrument | Total number of respondents | Annual number of respondents | Number of responses per respondent | Average burden hours per response | Annual burden hours
State coaching informant interview protocol | 45 | 23 | 1 | 1 | 23
ECE setting eligibility screener | 173 | 87 | 1 | 0.25 | 22
Center director survey | 60 | 30 | 1 | 0.5 | 15
Coach survey | 90 | 45 | 1 | 0.5 | 23
Teacher/FCC provider survey | 172 | 86 | 1 | 0.58 | 50
Center director semi-structured interview protocol | 12 | 6 | 1 | 1.5 | 9
Coach semi-structured interview protocol | 12 | 6 | 1 | 1 | 6
Teacher/FCC provider semi-structured interview protocol | 12 | 6 | 1 | 1 | 6
Coach supervisor semi-structured interview protocol | 12 | 6 | 1 | 0.5 | 3

Estimated Total Annual Burden Hours: 157.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research, and Evaluation, 330 C Street SW, Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary Jones,
ACF/OPRE Certifying Officer.

[FR Doc. 2017-27578 Filed 12-21-17; 8:45 am]

BILLING CODE 4184-22-P